DEPARTMENT OF LABOR

Employment and Training Administration

[TA-W-62,659]

Richloom Home Fashions Division of Richloom Fabrics Corporation Clinton, SC; Notice of Affirmative Determination Regarding Application for Reconsideration

By applications postmarked March 6, 2008, a petitioner requested administrative reconsideration of the Department of Labor's Notice of Negative Determination Regarding Eligibility to Apply for Worker Adjustment Assistance, applicable to workers and former workers of the subject firm. The denial notice was signed on February 22, 2008 and published in the Federal Register on March 7, 2008 (73 FR 12466).

The initial investigation resulted in a negative determination based on the finding that the worker group does not produce an article within the meaning of Section 222 of the Trade Act of 1974.

In the request for reconsideration, the petitioner provided additional information regarding the production of samples by the subject firm and requested that the Department conduct further investigation of the Sample Department.

The Department has carefully reviewed the request for reconsideration and the existing record and determined that the Department will conduct further investigation to determine if the Sample Department workers meet the eligibility requirements of the Trade Act of 1974.

Conclusion

After careful review of the application, I conclude that the claim is of sufficient weight to justify reconsideration of the Department of Labor's prior decision. The application is, therefore, granted.

Signed in Washington, DC, this 27th day of March, 2008.
Elliott S. Kushner,
Certifying Officer, Division of Trade Adjustment Assistance.

[FR Doc. E8-8981 Filed 4-23-08; 8:45 am]

BILLING CODE 4510-FN-P